FEDERAL COMMUNICATIONS COMMISSION

47 CFR Part 20

[CC Docket No. 94-102; DA 02-1575]

Enhanced 911 Emergency Calling; Use of Non-Initialized Wireless Phones

AGENCY: Federal Communications Commission.

ACTION: Final rule; request for comments on petitions for reconsideration and delay of effective date.

SUMMARY: This document invites comment on a Emergency Services Interconnection Forum's (ESIF) Petition for Reconsideration (Reconsideration Petition) of the Commission's previous decision in this proceeding and a separately filed Request for Stay (Stay Request) of the effective date of the rules adopted in that decision. That decision considered the problems associated with the inability of a public safety answering point to call back an emergency caller for further critical information when that caller is dialing 911 using a non-service initialized wireless telephone. The Commission now seeks comment on ESIF's Reconsideration Petition in order to establish a record on which to base a final determination on the Petition.

DATES: Comments are due on or before August 2, 2002, and reply comments are due on August 19, 2002.

ADDRESSES: All filings must be addressed to the Commission's Secretary, Office of the Secretary, Federal Communications Commission 445 12th Street, SW., Washington, DC 20554. Comments may also be filed through the Commission's Electronic Comment Filing System via the Internet to http://www.fcc.gov/e-file/ecfs.html.

FOR FURTHER INFORMATION CONTACT: David Siehl, Attorney-Advisor, Wireless Telecommunications Bureau, 202-418-1310.

SUPPLEMENTARY INFORMATION: This is a summary of the Commission's document in CC Docket No. 94-102, DA 02-1575; released July 3, 2002. The complete text of this document is available for inspection and copying during normal business hours in the FCC Reference Information Center, Courtyard Level, 445 12th Street, SW., Washington, DC, and also may be purchased from the Commission's copy contractor, Qualex International, Portals II, 445 12th Street, SW., Room CY-B402, Washington, DC 20554, telephone 202-863-2893, facsimile 202-863-2898, or via e-mail at qualexint@aol.com. Alternative formats (computer diskette, large print, audio cassettes, and Braille) are available to persons with disabilities by contacting Brian Millin at 202-418-7426, TTY 202-418-7365, or at bmillin@fcc.gov.

Synopsis

1. The Commission invites comment on a Petition for Reconsideration (Reconsideration Petition) of the Report and Order (R&O) in this proceeding in which the Commission addressed the issues associated with the inability of a Public Safety Answering Point (PSAP) to call back a 911 caller who is disconnected prematurely when that caller is using a non-service initialized wireless telephone (non-initialized phone). Non-initialized phones are handsets that are not registered for service with any Commercial Mobile Radio Service carrier and thus lack a dialable number. The R&O may be found at 67 FR 36112, May 23, 2002. The Reconsideration Petition was filed by the Emergency Services Interconnection Forum (ESIF), which also separately filed a Request for Stay (Stay Request) of the effective date (October 1, 2002) for 47 CFR 20.18(l)(1)(i) and (l)(2)(i), adopted in the R&O. The Commission also solicits comment on the Stay Request.

2. Section 20.18(l)(1)(i), requires that licensees donating non-service initialized handsets through carrier-sponsored efforts program those handsets with the code 123-456-7890 as the telephone number/mobile identification number to alert PSAPs that a 911 call is being made from a wireless phone that lacks call-back capability. Further, section 20.18(l)(2)(i) requires that all manufacturers of “911-only” handsets manufactured on or after October 1, 2002, program each handset with the same code.

3. The Reconsideration Petition notes a solution not raised in the record to address the lack of call-back capability. The proposed solution is based on a technical standard published jointly by the Telecommunications Industry Association (TIA) and ATIS. The standard suggests the use of a wireless handset's Electronic Serial Number (ESN) or International Mobile Station Equipment Identity (IMEI) to create a surrogate number: “911” plus the last seven digits of the ESN or IMEI expressed as a decimal number. According to the Reconsideration Petition, using this surrogate number provides easier identification of the specific phone used in placing a wireless 911 call. Moreover, the surrogate number allegedly permits (1) the PSAP to prevent the misuse of the 9-1-1 system due to repeated harassing calls made on non-initialized phones, and (2) the identification of legitimate emergency callers making multiple calls.

4. The Reconsideration Petition also asserts that ESIF has identified a problem that was not addressed in the record of this proceeding. According to ESIF, the number requirement, 123-456-7890, in the Commission's new rules also serves as a valid International Roaming MIN (Mobile Identification Number) (“IRM”) range. As a result, the potential impact of the 123-456-7890 code is to remove one million numbers the IRM assignment pool, when IRMs are a finite numbering resource where the first number must be a zero (0) or a one (1).

Administrative Matters

5. The Commission seeks comment on the issues raised by the Petition and Request. Pursuant to 47 CFR 1.1200(a), this proceeding is designated a “permit but disclose” proceedings and subject to § 1.1206. Ex parte presentations that are made will be allowed but must be disclosed in accordance with the requirements of 47 CFR 1.1206(b).

6. Pursuant to 47 CFR 1.415, 1.419, interested parties may file oppositions to the Request for Stay on or before August 2, 2002. Replies are due August 19, 2002.

7. Pursuant to § 1.429 of the Commission's rules, interested parties may file comments to the Petition for Reconsideration on or before August 2, 2002. Reply comments are due August 19, 2002.

8. Pleadings may be filed using the Commission's Electronic Comment Filing System (ECFS) or by filing paper copies. Comments filed through the ECFS can be sent as an electronic file via the Internet to <http://www.fcc.gov/e-file/ecfs.html>. Generally, only one copy of an electronic submission must be filed. In completing the transmittal screen, filing parties should include their full name, Postal Service mailing address, and the applicable docket or rulemaking number. Parties may also submit an electronic comment by Internet e-mail. To get filing instructions for e-mail comments, parties should send an e-mail to ecfs@fcc.gov, and should include the following words in the body of the message, “get form <your e-mail address>.” A sample form and directions will be sent in reply. Parties who choose to file by paper must file an original and four copies of each filing. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary,

9. Federal Communications Commission. In addition, a diskette copy should be sent to the Commission's copy contractor, Qualex International, Portals II, 445 12th Street, SW., Room CY-B402, Washington, DC, 20554, telephone 202-863-2893, facsimile 202-863-2898, or via e-mail to qualexint@aol.com.

List of Subjects in 47 CFR Part 20

Communications common carrier, Communications equipment, Radio.

Federal Communications Commission.
Marlene H. Dortch,
Secretary.

[FR Doc. 02-18047 Filed 7-16-02; 8:45 am]

BILLING CODE 6712-01-P